DEPARTMENT OF TRANSPORTATION

Federal Aviation Administration

[Docket No. FAA-2020-0611]

Agency Information Collection Activities: Requests for Comments; Clearance of Renewed Approval of Information Collection: Hazardous Materials Training Requirements

AGENCY: Federal Aviation Administration (FAA), DOT.

ACTION: Notice and request for comments.

SUMMARY: In accordance with the Paperwork Reduction Act of 1995, the FAA invites public comments about its intention to request the Office of Management and Budget (OMB) grant approval to renew an information collection. This collection involves the FAA's certification process requirements for operators and repair stations that are required to submit documentation related to hazardous materials training programs.

DATES: Written comments should be submitted by August 9, 2022.

ADDRESSES: Please send written comments:

By Electronic Docket: www.regulations.gov (Enter docket number into search field)

By mail: Victoria Lehman, Security & Hazardous Materials Safety, FAA Office of Hazardous Materials Safety (AXH-510), Federal Aviation Administration, 800 Independence Avenue SW, Room 300 East, Washington, DC 20591

By fax: 202-267-8496

FOR FURTHER INFORMATION CONTACT: Victoria Lehman by email at: hazmatinfo@faa.gov; phone: 202-267-7211

SUPPLEMENTARY INFORMATION: OMB Control Number: 2120-0705.

Title: Hazardous Materials Training Requirements.

Form Numbers: There are no FAA forms associated with this collection of information.

Type of Review: Renewal of an information collection.

Background: The FAA, as prescribed in Title 14, Code of Federal Regulations (14 CFR) parts 121 and 135, requires certificate holders to submit manuals and hazardous materials (“hazmat”) training programs, or revisions to an approved hazmat training program to obtain initial and final approval as part of the FAA's certification process. Original certification is completed in accordance with 14 CFR part 119. Continuing certification is completed in accordance with 14 CFR parts 121 and 135. The FAA uses the approval process to determine compliance of the hazmat training programs with the applicable regulations, national policies, and safe operating practices. The FAA must ensure that the documents adequately establish safe operating procedures. Additionally, 14 CFR part 145 requires certain repair stations to provide documentation showing that persons handling hazmat for transportation have been trained following the Department of Transportation's (DOT, “Department”) guidelines.

Respondents: The FAA estimates 6,893 respondents that are 14 CFR parts 121, 135, and 145 active certificate holders. The FAA estimates 80 active firms under part 121, 1,915 active firms under part 135, and 4,898 active firms under part 145.

Frequency: There is a one-time cost to revise manuals. Information is collected on occasion. Part 121 and part 135 operators are required to submit documentation of their hazardous materials training to receive original certification. If an operator decides to make a change to its training program, it must provide the updated manual. A part 145 repair station is required to submit a statement to the FAA certifying that all of its hazmat employees are trained under the Hazardous Materials Regulations prior to receiving the initial part 145 certificate.

Estimated Average Burden per Response: 374.69 hours of manual revision, recordkeeping, and notification for each part 121 operator, and 6.31 hours for each part 135 operator.

The FAA estimates 1.22 hours of certification submission and notification for part 145 operators. These are all annualized averages, which account for the wide variability in the type, complexity, and size of operation. Certificate holders are not anticipated to spend the same amount of time each year. Therefore, based on subject-matter expertise, the FAA expects that all part 121 operators will require 0.8 hours for minimum revisions to revise their manuals, and all part 135 operators will require 0.4 hours to accomplish this task. The estimated hours needed for the additional, substantial revisions range from 4 hours for part 121 operators, to 2 hours for part 135 operators. The FAA expects 65 part 121 operators and 624 part 135 operators to provide substantial revisions. Time averages the same of 0.08 hours per employee for recordkeeping for part 121 and part 135 operators. It is estimated that part 145 operators will spend 1 hour for notification. The FAA continues to assume these time burdens are reasonable estimates. Additionally, the type of update can vary. Operators may make minor revisions to the manual, or they may choose to make more significant changes reflecting a larger change in their operations.

Estimated Total Annual Burden: 29,975.58 hours for part 121 operators, 12,088.89 hours for part 135 operators, and 5,974 hours for part 145 operators.

The amount of time per response is expected to vary. For example, new responses take significantly longer than revisions. Furthermore, operators with will-carry hazardous materials operations are anticipated to have longer responses than will-not carry hazardous materials operations. Part 145 repair stations will require less time to develop a certification statement than operators require to develop a manual. Due to the pandemic, the data collection during this time reflects new normal operations.

Issued in Washington, DC, on June 7, 2022.
Daniel Benjamin Supko,
Executive Director, FAA, Office of Hazardous Materials Safety.

[FR Doc. 2022-12523 Filed 6-9-22; 8:45 am]

BILLING CODE 4910-13-P